DEPARTMENT OF AGRICULTURE

Forest Service

Hoosier National Forest, Indiana; German Ridge Restoration Project

AGENCY: Forest Service, USDA.

ACTION: Notice of Availability; FEIS available.

SUMMARY: The USDA Forest Service, Hoosier National Forest has made a decision on a final environmental impact statement for German Ridge Restoration project. The Acting Forest Supervisor has selected Alternative A for implementation. The DEIS discloses the environmental consequences of replacing nonnative pine plantations in the German Ridge area of Perry County, Indiana with native hardwood communities.

The DEIS was available for comment during two comment periods. A previous decision was withdrawn so that a second comment period could be provided in case someone had not been aware of the original opportunity to comment. No additional substantive comments were received during the additional comment period.

DATES: The Forest Supervisor signed the Record of Decision on January 24, 2006.

Copies: To receive a CD or a hard copy of the FEIS or the Record of Decision, request it from Ron Ellis, NEPA Coordinator; Hoosier National Forest; 811 Constitution Avenue; Bedford, IN 47421. To request a CD electronically, send a message with your request to r9_hoosier_website@fs.fed.us.

Appeal Opportunities: Only those who submitted substantive comments during one of the two comments periods are eligible to appeal this decision.

ADDRESSES: Send any appeal to the Appeal Deciding Officer: Regional Forester Randy Moore, 626 East Wisconsin Avenue, Milwaukee, WI 53202; fax: 414-944-3963. Send electronic appeals to: appeals-eastern-hoosier@fs.fed.us. When submitting electronic comments, please reference the German Ridge Restoration Project on the subject line. In addition, include your name and mailing address.

FOR FURTHER INFORMATION CONTACT: Ron Ellis, NEPA Coordinator, Hoosier National Forest, USDA Forest Service; telephone: 812 275-5987. See address above under Copies (under SUMMARY). Another means of obtaining information on the project is to visit the Forest Web page at http://www.fs.fed.us/r9/hoosier—click on “Forest Projects,” then “Scoping Packages,” and then “German Ridge Restoration.”

Selected Alternative

The selected alternative is to implement the proposed action, which would fulfill the goals and objectives of the Forest Plan involving the restoration of native communities; replace pine plantations with native hardwood communities that include a strong component of oaks, hickories, and other fire-adapted plants; and restore natural vegetative conditions to a set of barrens within the project area. To accomplish those goals, the Forest would during the next six or seven years; (1) Apply prescribed fire on approximately 2,170 acres, (2) thin approximately 215 acres, (3) implement pine removal on approximately 355 acres, and (4) complete shelterwood harvest on approximately 120 acres. Additional activities would also be pursued.

Responsible Official

James L. Lowe, Acting Forest Supervisor; Hoosier National Forest; 811 Constitution Avenue; Bedford, Indiana 47421.

(Authority: 40 CFR 1501.7 and 1508.22; Forest Service Handbook 1909.15, Section 21)

Dated: January 24, 2006.
James L. Lowe,
Acting Forest Supervisor.

[FR Doc. 06-975 Filed 2-1-06; 8:45 am]

BILLING CODE 3410-11-M